ELECTION ASSISTANCE COMMISSION

Sunshine Act Notice

ACTION: Election Security Forum.

DATE AND TIME: The Security Forum will be held on Thursday, August 15, 2019 from 12:30 p.m. until 3:30 p.m., Eastern Time.

PLACE: The Election Assistance Commission, 1st floor conference room, Silver Spring, MD 20910, Phone 301-563-3919. The meeting will also be streamed on www.eac.gov.

STATUS: This Hearing will be open to the public. Identification is required to enter the building.

AGENDA: The Commission will hold a public forum wherein it will facilitate a 3 panel discussion regarding election security and voting system certification. The full agenda of panelists will be posted in advance at http://www.eac.gov. Members of the public who wish to make a statement for the record may submit their statement to the EAC by 5:00 p.m. EDT on Wednesday August 14, 2019.

Clifford Tatum,
General Counsel, U.S. Election Assistance Commission.

[FR Doc. 2019-17375 Filed 8-8-19; 4:15 pm]

BILLING CODE 6820-KF-P